DEPARTMENT OF THE INTERIOR

Bureau of Land Management

[WY-957-05-1910-BJ-5115]

Notice of Filing of Plats of Survey, Nebraska

AGENCY: Bureau of Land Management, Interior.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, Cheyenne, Wyoming 82009.

SUPPLEMENTARY INFORMATION: These surveys were executed at the request of the Bureau of Indian Affairs and are necessary for the management of these lands. The lands surveyed are:

The plats (in 5 sheets) representing the dependent resurvey of the First Guide Meridian East through T. 26 N., between Rs. 8 and 9 E., the Treaty Boundary of March 8, 1865, through R. 8 E., portions of the subdivisional lines and the subdivision of certain sections, the corrective dependent resurvey of a portion of the First Guide Meridian East, and the survey of the subdivision of certain sections, Township 26 North, Range 8 East, Sixth Principal Meridian, Nebraska, was accepted August 3, 2005.

Copies of the preceding described plats are available to the public.

Dated: August 3, 2005.
John P. Lee,
Chief Cadastral Surveyor, Division of Support Services.

[FR Doc. 05-15694 Filed 8-12-05; 8:45 am]

BILLING CODE 4310-22-P